FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 11, 2015.

A. Federal Reserve Bank of Dallas (Robert L. Triplett III, Senior Vice President) 2200 North Pearl Street, Dallas, Texas 75201-2272:

1. Happy Bancshares, Inc., Employee Stock Ownership Plan with 401(k) Provisions, Vicki Wilmarth, Trustee, Amarillo, Texas; to acquire voting shares of Happy Bancshares, Inc., Canyon, Texas, and thereby indirectly acquire voting shares of Happy State Bank, Happy, Texas.

Board of Governors of the Federal Reserve System, July 22, 2015.
Michael J. Lewandowski,
Associate Secretary of the Board.

[FR Doc. 2015-18310 Filed 7-24-15; 8:45 am]

BILLING CODE 6210-01-P